DEPARTMENT OF COMMERCE

National Oceanic and Atmospheric Administration

Federal Consistency Appeals by Weaver's Cove, LLC and Mill River Pipeline, LLC

AGENCY: National Oceanic and Atmospheric Administration (NOAA), Department of Commerce (Commerce).

ACTION: Notice of stay—closure of administrative appeals decision record.

SUMMARY: This announcement provides notice that the Secretary of Commerce has stayed, for a period of 60 days, closure of the decision record in administrative appeals filed by Weaver's Cove, LLC and Mill River Pipeline, LLC (Weaver's Cove and Mill River Consistency Appeals).

DATES: The decision record for the Weaver's Cove and Mill River Consistency Appeals will now close on May 5, 2008.

ADDRESSES: Office of the General Counsel for Ocean Services, National Oceanic and Atmospheric Administration, U.S. Department of Commerce, 1305 East-West Highway, Silver Spring, MD 20910.

FOR FURTHER INFORMATION CONTACT: Brett Grosko, Attorney-Advisor, Office of the General Counsel, via e-mail at gcos.inquiries@noaa.gov, or at (301) 713-7384.

SUPPLEMENTARY INFORMATION: In August 2007, Weaver's Cove, LLC and Mill River Pipeline, LLC (Weaver's Cove and Mill River, or Appellants) filed appeals with the Secretary of Commerce (Secretary) pursuant to section 307(c)(3)(A) of the Coastal Zone Management Act of 1972 (CZMA). The appeal was taken from an objection by the Commonwealth of Massachusetts (Commonwealth), relating to Weaver's Cove's and Mill River's proposal to construct and operate a liquefied natural gas terminal in Fall River, Massachusetts, and two associated pipeline laterals that would transport gas from the terminal to the interstate pipeline grid.

Under the CZMA, the Secretary must close the decision record in an appeal 160 days after the notice of appeal is published in the Federal Register. 16 U.S.C. 1465. However, the CZMA authorizes the Secretary to stay closing the decision record for up to 60 days when the Secretary determines it necessary to receive, on an expedited basis, any supplemental information specifically requested by the Secretary to complete a consistency review or any clarifying information submitted by a party to the proceeding related to information in the consolidated record compiled by the lead Federal permitting agency. 16 U.S.C. 1465(b)(3).

After reviewing the Weaver's Cove and Mill River Consistency Appeals' decision record developed to date, the Secretary has decided to solicit supplemental and clarifying information. In order to allow receipt of this information, the Secretary hereby stays closure of the decision record, currently scheduled to occur on March 4, 2008, until May 5, 2008.

Additional information about the Weaver's Cove and Mill River Consistency Appeals and the CZMA appeals process is available from the Department of Commerce CZMA appeals Web site http://www.ogc.doc.gov/czma.htm.

Dated: February 26, 2008.
Jeffrey S. Dillen,
Deputy Assistant General Counsel for Ocean Services.

[Federal Domestic Assistance Catalog No. 11.419 Coastal Zone Management Program Assistance.]

[FR Doc. E8-3951 Filed 2-29-08; 8:45 am]

BILLING CODE 3510-08-P